DEPARTMENT OF JUSTICE

Office of Justice Programs

Agency Information Collection Activities: Proposed Collection; Comments Requested

ACTION: 60-day notice of information collection under review promising programs for substance abuse prevention: Replication and Evaluation Initiative.

The Department of Justice (DOJ), Office of Justice Programs, Office of Juvenile Justice and Delinquency Prevention, has submitted the following information collection request to the Office of Management and Budget (OMB) for review and approval in accordance with the Paperwork Reduction Act of 1995. The proposed information collection is published to obtain comments from the public and affected agencies. Comments are encouraged and will be accepted for “sixty days” until February 7, 2005. This process is conducted in accordance with 5 CFR 1320.10.

If you have comments especially on the estimated public burden or associated response time, suggestions, or need a copy of the proposed information collection instrument with instructions or additional information, please contact Dr. Michael Shader, (202) 616-2605, Office of Juvenile Justice and Delinquency Prevention, Office of Justice Programs, United States Department of Justice, 810 Seventh Street NW., Washington, DC 20531.

Written comments and suggestions from the public and affected agencies concerning the proposed collection of information are encouraged. Comments should address one or more of the following four points:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submission of responses.

Overview of This Information Collection

(1) Type of Information Collection: New Collection.

(2) The Title of the Form/Collection: Promising Programs for Substance Abuse Prevention: Replication and Evaluation Initiative.

(3) The Agency Form Number, If Any, and the Applicable Component of the Department Sponsoring the Collection: There is no agency form number. Office of Juvenile Justice and Delinquency Prevention, United States Department of Justice.

(4) Affected Public Who Will Be Asked or Required to Respond, as Well as a Brief Abstract: Primary: Individuals. Other: Not-for profit. Two substance abuse prevention programs for middle school and alternative high school students will be evaluated for effectiveness by independent evaluators, potentially establishing them as effective programs. Middle schools and high schools will be asked to assist in study implementation.

(5) An Estimate of the Total Number of Respondents and the Amount of Time Estimated for an Average Respondent to Respond/Reply: It is estimated that 7,000 respondents will complete a 35-40 minute survey three times (pre-test, post-test, and one-year follow up post-test) over the next four years.

(6) An estimate of the total burden (in hours) associated with the collection. The estimated total burden to complete the nominations is 12, 600 hours. The average annual hour burden (over four years) is 3,150.

If additional information is required contact: Mrs. Brenda E. Dyer, Clearance Officer, United States Department of Justice, Policy and Planning Staff, Justice Management Division, Suite 1600, Patrick Henry Building, 601 D Street NW., Washington, DC 20530.

Dated: December 2, 2004.
Brenda E. Dyer,
Department Clearance Officer, United States Department of Justice.

[FR Doc. 04-26908 Filed 12-7-04; 8:45 am]

BILLING CODE 4410-18-P